DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socioeconomics of Users and Non Users of Grays Reef National Marine Sanctuary.

OMB Control Number: None.

Form Number(s): NA.

Type of Request: Regular submission (request for review of a new information collection).

Number of Respondents: 248.

Average Hours per Response: Sanctuary users' and non-users' surveys, one hour; business operations' surveys, 3 hours.

Burden Hours: 276.

Needs and Uses: The National Marine Sanctuaries Act (16 U.S.C. 1431, et seq.) (NMSA) authorizes the use of research and monitoring within National Marine Sanctuaries (NMS). In 1981, the Grays Reef National Marine Sanctuary (GRNMS) was added to the system of NMSs.

The purpose of this information collection is to obtain socioeconomic information on this sanctuary. The GRNMS has recently revised its management plan, and two issues emerged as top priorities leading to efforts to change management strategies and regulations: (1) Prohibition of spear fishing and (2) research only area. Information was obtained to assess the potential socioeconomic impacts of the prohibition of spear fishing and research only area alternatives. The preferred alternatives have been chosen and the regulatory process to implement the regulations is underway. The study involves surveys of recreational user groups, which are potentially impacted by the regulations, to assess their knowledge, attitudes and perceptions of the management strategies and regulations and how they were actually impacted post implementation, and to guide education and outreach efforts.

Information will be collected on spatial use for all user groups to assess the extent of potential displacement of activity from the research only area alternative.

For business operations, costs and earnings will be obtained to assess the impact of regulatory alternatives on business profits. Socioeconomic/demographic information on owners/operators and number of employees and family members of owners/operators will also be obtained.

For members of households that participate in recreational fishing or recreational SCUBA diving, information will be collected on socioeconomic/demographic profiles, spending associated with their activity, economic user value associated with their activity, and knowledge, attitudes and perceptions about GRNMS management strategies and regulations.

Affected Public: Business or other for-profit organizations; individuals or households.

Frequency: One time.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: September 29, 2010.
Gwellnar Banks,
Management Analyst, Office of the Chief Information Officer.

[FR Doc. 2010-24858 Filed 10-4-10; 8:45 am]

BILLING CODE 3510-22-P